DEPARTMENT OF JUSTICE

Federal Bureau of Investigation

[OMB Number 1110-New]

Agency Information Collection Activities; Proposed eCollection of eComments Requested; New Collection

AGENCY: Laboratory Division, Federal Bureau of Investigation, Department of Justice.

ACTION: 30-Day notice.

SUMMARY: The Department of Justice, Federal Bureau of Investigation, Laboratory Division, is submitting the following information collection request to the Office of Management and Budget (OMB) for review and approval in accordance with the Paperwork Reduction Act of 1995.

DATES: The Department of Justice encourages public comment and will accept input until July 18, 2022.

FOR FURTHER INFORMATION CONTACT: If you have additional comments especially on the estimated public burden or associated response time, suggestions, or need a copy of the proposed information collection instrument with instructions or additional information, please contact Dr. JoAnn Buscaglia, Research Chemist, Laboratory Division, Federal Bureau of Investigation, 2501 Investigation Parkway, Quantico, VA 22135, LPBB22@fbi.gov, 703-632-7856.

SUPPLEMENTARY INFORMATION: Written comments and suggestions from the public and affected agencies concerning the proposed collection of information are encouraged. Your comments should address one or more of the following four points:

➢ Evaluate whether the proposed collection of information is necessary for the proper performance of the functions of the Laboratory Division, Federal Bureau of Investigation, including whether the information will have practical utility;

➢ Evaluate the accuracy of the agency's estimate of the burden of the proposed collection of information, including the validity of the methodology and assumptions used;

➢ Evaluate whether and if so how the quality, utility, and clarity of the information to be collected can be enhanced; and

➢ Minimize the burden of the collection of information on those who are to respond, including through the use of appropriate automated, electronic, mechanical, or other technological collection techniques or other forms of information technology, e.g., permitting electronic submission of responses.

Overview of This Information Collection

1. Type of Information Collection: New collection.

2. The Title of the Form/Collection: Latent Print Examiner Black Box Study 2022.

3. The agency form number, if any, and the applicable component of the Department sponsoring the collection: There is no agency form number for this collection. The applicable component within the Department of Justice is the Laboratory Division, Federal Bureau of Investigation.

4. Affected public who will be asked or required to respond, as well as a brief abstract: Affected public will consist of U.S. Federal, state, local, and tribal government employees, and contractors for these government agencies (“business or other non-profit”).

Abstract: This study is being conducted to measure the accuracy and reproducibility of latent print examiners' decisions when comparing latents to known fingerprints acquired by a search of the FBI NGI system, and to compare these results with those from published studies using the FBI IAFIS. Respondents will be latent fingerprint examiners (employees and contractors) from U.S. Federal, state, local, and tribal governments.

5. An estimate of the total number of respondents and the amount of time estimated for an average respondent to respond: An estimated 250 respondents is anticipated, though the research study will be open to all practicing latent fingerprint examiners from U.S. Federal, state, local, and tribal governments. Individuals will work at their own paces, but the project was scaled for an average of 12 hours total per individual to respond to the collection.

6. An estimate of the total public burden (in hours) associated with the collection: 3,000 hours.

If additional information is required contact: Robert Houser, Assistant Director, Policy and Planning Staff, Justice Management Division, United States Department of Justice, Two Constitution Square, 145 N Street NE, 3E.405A, Washington, DC 20530.

Dated: June 10, 2022.
Robert Houser,
Assistant Director, Policy and Planning Staff, Justice Management Division, U.S. Department of Justice.

[FR Doc. 2022-12957 Filed 6-15-22; 8:45 am]

BILLING CODE 4410-02-P